DEPARTMENT OF COMMERCE

Foreign-Trade Zones Board

[B-5-2023]

Foreign-Trade Zone 78—Nashville, Tennessee; Application for Expansion of Subzone 78A, Nissan North America, Inc., Smyrna, Tennessee

An application has been submitted to the Foreign-Trade Zones (FTZ) Board by the Metropolitan Government of Nashville and Davidson County, grantee of FTZ 78, requesting expanded subzone status for the facilities of Nissan North America, Inc. (Nissan), located in Smyrna, Tennessee. The application was submitted pursuant to the provisions of the Foreign-Trade Zones Act, as amended (19 U.S.C. 81a-81u), and the regulations of the FTZ Board (15 CFR part 400). It was formally docketed on January 19, 2023.

The application requests authority to expand Site 1 of Subzone 78A by an additional 9 acres. The site is located at 983 Nissan Drive, Smyrna TN. No authorization for additional production activity has been requested at this time.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is March 6, 2023. Rebuttal comments in response to material submitted during the foregoing period may be submitted during the subsequent 15-day period to March 20, 2023.

A copy of the application will be available for public inspection in the “Online FTZ Information Section” section of the FTZ Board's website, which is accessible via www.trade.gov/ftz.

For further information, contact Christopher Kemp at Christopher.Kemp@trade.gov.

Dated: January 19, 2023.
Elizabeth Whiteman,
Acting Executive Secretary.

[FR Doc. 2023-01329 Filed 1-23-23; 8:45 am]

BILLING CODE 3510-DS-P